ENVIRONMENTAL PROTECTION AGENCY

40 CFR Part 52

[EPA-R05-OAR-2010-0035; FRL-9187-6]

Approval and Promulgation of Air Quality Implementation Plans; MN

AGENCY: Environmental Protection Agency (EPA).

ACTION: Proposed rule.

SUMMARY: EPA is proposing to approve Minnesota's request to amend its State Implementation Plan (SIP) for sulfur dioxide (SO2). The Minnesota Pollution Control Agency submitted the SIP revision request to EPA on November 23, 2009, and supplemented it on March 3, 2010. The approval of this request would revise SIP requirements applicable to Saint Mary's Hospital, located in Rochester, Minnesota by adding a 2500 kilowatt (KW) reciprocating internal combustion engine (RICE) electric generator and reducing the allowable diesel fuel sulfur content for two existing RICE electric generators. The revision also includes administrative changes in the identification of emissions units. These revisions are included in a joint Title I/Title V document for Saint Mary's Hospital, which would replace the document currently approved into the SIP for the facility. These revisions will result in reducing the SO2 impact in the Rochester area, and strengthening the existing SO2 SIP.

DATES: Comments must be received on or before September 13, 2010.

ADDRESSES: Submit your comments, identified by Docket ID No. EPA-R05-OAR-2010-0035, by one of the following methods:

1. http://www.regulations.gov: Follow the on-line instructions for submitting comments.

2. E-mail: bortzer.jay@epa.gov.

3. Fax: (312) 629-2054.

4. Mail: Jay Bortzer, Chief, Air Programs Branch (AR-18J), U.S. Environmental Protection Agency, 77 West Jackson Boulevard, Chicago, Illinois 60604.

5. Hand Delivery: Jay Bortzer, Chief, Air Programs Branch (AR-18J), U.S. Environmental Protection Agency, 77 West Jackson Boulevard, Chicago, Illinois 60604. Such deliveries are only accepted during the Regional Office normal hours of operation, and special arrangements should be made for deliveries of boxed information. The Regional Office official hours of business are Monday through Friday, 8:30 a.m. to 4:30 p.m. excluding Federal holidays.

Please see the direct final rule which is located in the Rules section of this Federal Register for detailed instructions on how to submit comments.

FOR FURTHER INFORMATION CONTACT: Charles Hatten, Environmental Engineer, Control Strategies Section, Air Programs Branch (AR-18J), U.S. Environmental Protection Agency, Region 5, 77 West Jackson Boulevard, Chicago, Illinois 60604, (312) 886-6031, hatten.charles@epa.gov.

SUPPLEMENTARY INFORMATION: In the Rules section of this Federal Register, EPA is approving the State's SIP submittal as a direct final rule without prior proposal because EPA views this as a noncontroversial submittal and anticipates no adverse comments. A detailed rationale for the approval is set forth in the direct final rule. If no adverse comments are received in response to this rule, no further activity is contemplated. If EPA receives adverse comments, the direct final rule will be withdrawn and all public comments received will be addressed in a subsequent final rule based on this proposed rule. EPA will not institute a second comment period. Any parties interested in commenting on this action should do so at this time. Please note that if EPA receives adverse comment on an amendment, paragraph, or section of this rule and if that provision may be severed from the remainder of the rule, EPA may adopt as final those provisions of the rule that are not the subject of an adverse comment. For additional information, see the direct final rule which is located in the Rules section of this Federal Register.

Dated: August 2, 2010.
Bharat Mathur,
Acting Regional Administrator, Region 5.

[FR Doc. 2010-19825 Filed 8-11-10; 8:45 am]

BILLING CODE 6560-50-P